NUCLEAR REGULATORY COMMISSION

Application for a License To Export High-Enriched Uranium

Correction

In notice document E5-3342 beginning on page 37126 in the issue of Tuesday, June 28, 2005, make the following correction:

On page 37127, in the first column, in the third full paragraph, the information under the heading “NRC Export License Application for High-Enriched Uranium” should appear as a table reading as follows:

NRC export license application for high-enriched uranium
Name of Applicant Date of Application Date Received Application Number Docket Number | Material Type | End Use | Country of Destination
DOE/NNSA-Y12 June 1, 2005 | High-Enriched Uranium | The material would be transferred initially to CERCA, in France, where it would be fabricated into fuel. This fuel would then be transferred to Studiecentrum voor Kernergie (SCK) for ultimate use at BR-2 research reactor located in Mol, Belgium from 2008-2011. | Belgium
June 2, 2005 XSNM03404 11005562 |  |  |

[FR Doc. Z5-3342 Filed 7-8-05; 8:45 am]

BILLING CODE 1505-01-D